DEPARTMENT OF ENERGY

Federal Energy Regulatory Commission

Combined Notice of Filings #1

Take notice that the Commission received the following electric rate filings:

Docket Numbers: ER15-2115-000.

Applicants: Southwest Power Pool, Inc.

Description: Section 205(d) Rate Filing: Northwest Iowa Power Cooperative Formula Rate to be effective 10/1/2015.

Filed Date: 7/7/15.

Accession Number: 20150707-5150.

Comments Due: 5 p.m. ET 7/28/15.

Docket Numbers: ER15-2116-000.

Applicants: NorthWestern Corporation.

Description: Section 205(d) Rate Filing: RS 271—REC Silicon O and M Agreement to be effective 7/9/2015.

Filed Date: 7/8/15.

Accession Number: 20150708-5045.

Comments Due: 5 p.m. ET 7/29/15.

Docket Numbers: ER15-2117-000.

Applicants: Midcontinent Independent System Operator, Inc.

Description: Tariff Cancellation: 2015-07-08_Cancellation of Index of Customers to be effective 9/6/2015.

Filed Date: 7/8/15.

Accession Number: 20150708-5047.

Comments Due: 5 p.m. ET 7/29/15.

Docket Numbers: ER15-2118-000.

Applicants: CalPeak Power—Border LLC.

Description: Section 205(d) Rate Filing: Notice re Cat 2 Seller in SW Region to be effective 7/9/2015.

Filed Date: 7/8/15.

Accession Number: 20150708-5049.

Comments Due: 5 p.m. ET 7/29/15.

Docket Numbers: ER15-2119-000.

Applicants: CalPeak Power—Enterprise LLC.

Description: Section 205(d) Rate Filing: Notice re Cat 2 Seller in SW Region to be effective 7/9/2015.

Filed Date: 7/8/15.

Accession Number: 20150708-5050.

Comments Due: 5 p.m. ET 7/29/15.

Docket Numbers: ER15-2120-000.

Applicants: CalPeak Power—Panoche LLC.

Description: Section 205(d) Rate Filing: Notice re Cat 2 Seller in SW Region to be effective 7/9/2015.

Filed Date: 7/8/15.

Accession Number: 20150708-5051.

Comments Due: 5 p.m. ET 7/29/15.

Docket Numbers: ER15-2121-000.

Applicants: CalPeak Power—Vaca Dixon LLC.

Description: Section 205(d) Rate Filing: Notice re Cat 2 Seller in SW Region to be effective 7/9/2015.

Filed Date: 7/8/15.

Accession Number: 20150708-5052.

Comments Due: 5 p.m. ET 7/29/15.

Docket Numbers: ER15-2122-000.

Applicants: CalPeak Power LLC.

Description: Section 205(d) Rate Filing: Notice re Cat 2 Seller in SW Region to be effective 7/9/2015.

Filed Date: 7/8/15.

Accession Number: 20150708-5053.

Comments Due: 5 p.m. ET 7/29/15.

Docket Numbers: ER15-2123-000.

Applicants: Midway Peaking, LLC.

Description: Section 205(d) Rate Filing: Notice re Category 2 Seller Status to be effective 7/9/2015.

Filed Date: 7/8/15.

Accession Number: 20150708-5055.

Comments Due: 5 p.m. ET 7/29/15.

Docket Numbers: ER15-2124-000.

Applicants: EDF Industrial Power Services (IL), LLC.

Description: Tariff Cancellation: Notice of cancellation to be effective7/9/2015.

Filed Date: 7/8/15.

Accession Number: 20150708-5061.

Comments Due: 5 p.m. ET 7/29/15.

Docket Numbers: ER15-2125-000.

Applicants: EDF Industrial Power Services (NY), LLC.

Description: Tariff Cancellation: Notice of cancellation to be effective7/9/2015.

Filed Date: 7/8/15.

Accession Number: 20150708-5064.

Comments Due: 5 p.m. ET 7/29/15.

Docket Numbers: ER15-2126-000.

Applicants: EDF Industrial Power Services (OH), LLC.

Description: Tariff Cancellation: Notice of cancellation to be effective7/9/2015.

Filed Date: 7/8/15.

Accession Number: 20150708-5068.

Comments Due: 5 p.m. ET 7/29/15.

Docket Numbers: ER15-2127-000.

Applicants: Niagara Mohawk Power Corporation, New York Independent System Operator, Inc.

Description: Section 205(d) Rate Filing: NiMo filing of an amended and restate IA on behalf of NiMo and Sithe to be effective 6/30/2015.

Filed Date: 7/8/15.

Accession Number: 20150708-5079.

Comments Due: 5 p.m. ET 7/29/15.

Docket Numbers: ER15-2128-000.

Applicants: New York Independent System Operator, Inc., Niagara Mohawk Power Corporation.

Description: Section 205(d) Rate Filing: Cost Reimbursement Agreement (SA 2223) between Ntnl Grd and RG&E to be effective 3/5/2015.

Filed Date: 7/8/15.

Accession Number: 20150708-5088.

Comments Due: 5 p.m. ET 7/29/15.

Docket Numbers: ER15-2129-000.

Applicants: Slate Creek Wind Project, LLC.

Description: Baseline eTariff Filing: Slate Creek Wind Initial Baseline MBR Application Filing to be effective 9/7/2015.

Filed Date: 7/8/15.

Accession Number: 20150708-5130.

Comments Due: 5 p.m. ET 7/29/15.

Docket Numbers: ER15-2130-000.

Applicants: Roosevelt Wind Project, LLC.

Description: Baseline eTariff Filing: Roosevelt Wind Initial Baseline MBR Application Filing to be effective 9/7/2015.

Filed Date: 7/8/15.

Accession Number: 20150708-5142.

Comments Due: 5 p.m. ET 7/29/15.

Docket Numbers: ER15-2131-000.

Applicants: Milo Wind Project, LLC.

Description: Baseline eTariff Filing: Milo Wind Initial Baseline MBR Application Filing to be effective 9/7/2015.

Filed Date: 7/8/15.

Accession Number: 20150708-5155.

Comments Due: 5 p.m. ET 7/29/15.

Take notice that the Commission received the following electric reliability filings:

Docket Numbers: RD14-14-001; RD15-3-001; RD15-5-001.

Applicants: North American Electric Reliability Corporation.

Description: Revisions of the North American Electric Reliability Corporation to the Violation Risk Factors for Reliability Standards PRC-004-3, PRC-004-4 and PRC-004-5.

Filed Date: 7/7/15.

Accession Number: 20150707-5189.

Comments Due: 5 p.m. ET 8/7/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 8, 2015.
Nathaniel J. Davis, Sr.,
Deputy Secretary.

[FR Doc. 2015-17260 Filed 7-14-15; 8:45 am]

BILLING CODE 6717-01-P